ENVIRONMENTAL PROTECTION AGENCY

[EPA-HQ-OAR-2010-0469; FRL-9219-3]

Agency Information Collection Activities; Submission to OMB for Review and Approval; Comment Request; NESHAP for Secondary Aluminum Production Residual Risk and Technology Review (RTR); EPA ICR No. 2400.01, OMB Control Number 2060—NEW

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before December 1, 2010.

ADDRESSES: Submit your comments, referencing Docket ID No. EPA-HQ-OAR-2010-0469, to (1) EPA online using www.regulations.gov (our preferred method), by email to a-and-r-docket@epa.gov, or by mail to: EPA Docket Center, Environmental Protection Agency, 22821T, 1200 Pennsylvania Ave., NW., Washington, DC 20460, and (2) OMB by mail to: Office of Information and Regulatory Affairs, Office of Management and Budget, Attention: Desk Officer for EPA, 725 17th Street, NW., Washington, DC 20503.

FOR FURTHER INFORMATION CONTACT: Rochelle Boyd, Office of Air Quality Planning and Standards, D243-02, Environmental Protection Agency, Research Triangle Park, North Carolina 27711; telephone number: (919) 541-1390; fax number: (919) 541-3207; email address: boyd.rochelle@epa.gov.

SUPPLEMENTARY INFORMATION: EPA has submitted the following ICR to OMB for review and approval according to the procedures prescribed in 5 CFR 1320.12. On July 26, 2010 (75 FR 43520), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-OAR-2010-0469, which is available for online viewing at http://www.regulations.gov or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use http://www.regulations.gov to obtain a copy of the draft collection of information, submit or view public comments, access the index listing of the contents of the docket, and to access those documents in the public docket that are available electronically. Once in the system, select “search,” then key in the docket ID number identified in this document. Please note that EPA's policy is that public comments, whether submitted electronically or on paper, will be made available for public viewing at http://www.regulations.gov as EPA receives them and without change, unless the comment contains copyrighted material, confidential business information (CBI), or other information whose public disclosure is restricted by statute. For further information about the electronic docket, go to http://www.regulations.gov.

Title: NESHAP for Secondary Aluminum Production Residual Risk and Technology Review (RTR).

ICR numbers: EPA ICR No. 2400.01, OMB Control No. 2060—New.

ICR Status: This ICR is for a new information collection activity. An Agency may not conduct or sponsor, and a person is not required to respond to, a collection of information unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: This ICR was developed specifically for secondary aluminum production facilities and has been tailored to the processes at secondary aluminum production facilities. EPA intends to provide the survey in electronic format. The survey will be sent to all facilities identified as owning or operating secondary aluminum production facilities through information available to the Agency.

Information is requested from approximately 400 secondary aluminum production facilities on general facility information, process information, emission control devices used at the facilities and their basic design and operating features, quantity of air emissions, throughput and capacity of process units. An update of the 2005 National-Scale Air Toxics Assessment/National Emissions Inventory data sets and more specific information needed for further rulemaking would be derived from the ICR. This information is necessary for EPA to adequately characterize residual risk at these facilities, and to develop standards for new and existing secondary aluminum production facilities under section 112 of the Clean Air Act (CAA).

EPA is charged, under section 112 of the CAA, with developing national emission standards for 189 listed hazardous air pollutants (HAP). The Secondary Aluminum Production Maximum Achievable Control Technology (Secondary Aluminum MACT) standard (40 CFR part 63, subpart RRR) is a national emission standard for HAP developed under the authority of section 112(d) of the CAA. EPA is required to review each MACT standard and revise them “as necessary (taking into account developments in practices, processes and control technologies)” no less frequently than every eight years. These reviews are commonly referred to as “technology reviews.” In addition, EPA is required to assess the risk remaining (residual risk) after implementation of the MACT standard and promulgate more stringent standards if they are necessary to protect public health. Under EPA's RTR program, EPA is addressing these two requirements concurrently. EPA is updating the information they currently possess and filling identified data gaps in that information in order to provide a thorough basis for the RTR efforts. The data collection effort will gather additional information to allow comprehensive and technically sound analyses that will form the basis for future rulemaking decisions. Responses to the ICR are mandatory under the authority of section 114 of the CAA.

Burden Statement: The one time public reporting burden for the collection of this information is estimated to average 91 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of secondary aluminum production facilities.

Estimated Number of Respondents: 400 facilities.

Frequency of Response: One time.

Estimated Total Annual Hour Burden: 36,248.

Estimated Total Annual Cost: $3,429,747, which includes $1,200 in operation and maintenance costs.

Changes in the Estimates: This is a new collection.

Dated: October 26, 2010.
John Moses,
Director, Collection Strategies Division.

[FR Doc. 2010-27508 Filed 10-29-10; 8:45 am]

BILLING CODE 6560-50-P